DEPARTMENT OF VETERANS AFFAIRS

[OMB Control No. 2900-0365]

Agency Information Collection Activities Under OMB Review

AGENCY: National Cemetery Administration, Department of Veterans Affairs.

ACTION: Notice.

SUMMARY: In compliance with the Paperwork Reduction Act (PRA) of 1995 (44 U.S.C. 3501-3521), this notice announces that the National Cemetery Administration (NCA), Department of Veterans Affairs, has submitted the collection of information abstracted below to the Office of Management and Budget (OMB) for review and comment. The PRA submission describes the nature of the information collection and its expected cost and burden; it includes the actual data collection instrument.

DATES: Comments must be submitted on or before July 23, 2004.

For Further Information or a Copy of the Submission Contact: Denise McLamb, Records Management Service (005E3), Department of Veterans Affairs, 810 Vermont Avenue, NW., Washington, DC 20420, (202) 273-8030, FAX (202) 273-5981 or e-mail denise.mclamb@mail.va.gov. Please refer to “OMB Control No. 2900-0365” in any correspondence.

Send comments and recommendations concerning any aspect of the information collection to VA's OMB Desk Officer, OMB Human Resources and Housing Branch, New Executive Office Building, Room 10235, Washington, DC 20503, (202) 395-7613. Please refer to “OMB Control No. 2900-0365” in any correspondence.

SUPPLEMENTARY INFORMATION: Title: Request for Disinterment, VA Form 40-4970.

OMB Control Number: 2900-0365.

Type of Review: Extension of a currently approved collection.

Abstract: Claimants complete VA Form 40-4970 to request removal of remains from a national cemetery for interment at another location. Interments made in national cemeteries are permanent and final. Disinterment will be permitted for cogent reasons with prior written authorization by the Cemetery Director. Approval can be granted when all immediate family members of the decedent, including the person who initiated the interment, (whether or not he/she is a member of the immediate family) give their written consent. The form is an affidavit that requires signatories to execute the document before a notary. In lieu of submitting VA Form 40-4970, an order from a court of local jurisdiction will be accepted.

An agency may not conduct or sponsor, and a person is not required to respond to a collection of information unless it displays a currently valid OMB control number. The Federal Register Notice with a 60-day comment period soliciting comments on this collection of information was published on March 16, 2004, at pages 12394-12395.

Affected Public: Individuals or households.

Estimated Annual Burden: 55 hours.

Estimated Average Burden Per Respondent: 10 minutes.

Frequency of Response: On Occasion.

Estimated Number of Respondents: 329.

Dated: June 14, 2004.
By direction of the Secretary:
Loise Russell,
Director, Records Management Service.

[FR Doc. 04-14190 Filed 6-22-04; 8:45 am]

BILLING CODE 8320-01-P